CONSUMER PRODUCT SAFETY COMMISSION

[Docket No. CPSC-2009-0088]

Agency Information Collection Activities; Proposed Collection; Comment Request; Third Party Conformity Assessment Body Registration Form

AGENCY: Consumer Product Safety Commission.

ACTION: Notice.

SUMMARY: As required by the Paperwork Reduction Act of 1995, the Consumer Product Safety Commission (CPSC) requests comments on a proposed extension of approval of a collection of information under the requirements pertaining to a third party conformity assessment bodies registration form, approved previously under OMB Control No. 3041-0143. The Commission will consider all comments received in response to this notice before requesting an extension of this collection of information from the Office of Management and Budget (OMB).

DATES: Submit written or electronic comments on the collection of information by November 5, 2019.

ADDRESSES: You may submit comments, identified by Docket No. CPSC-2009-0088, by any of the following methods:

Electronic Submissions: Submit electronic comments to the Federal eRulemaking Portal at: http://www.regulations.gov. Follow the instructions for submitting comments. The CPSC does not accept comments submitted by electronic mail (email), except through www.regulations.gov. The CPSC encourages you to submit electronic comments by using the Federal eRulemaking Portal, as described above.

Written Submissions: Submit written submissions by mail/hand delivery/courier to: Division of the Secretariat, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number CPSC-2009-0088, into the “Search” box, and follow the prompts.

FOR FURTHER INFORMATION CONTACT: Bretford J. Griffin, Consumer Product Safety Commission, 4330 East West Highway, Bethesda, MD 20814; (301) 504-7037, or by email to: bgriffin@cpsc.gov.

SUPPLEMENTARY INFORMATION: CPSC seeks to renew the following currently approved collection of information:

Title: Third Party Conformity Assessment Body Registration Form.

OMB Number: 3041-0143.

Type of Review: Renewal of collection.

Frequency of Response: On occasion.

Affected Public: Third party conformity assessment bodies seeking acceptance of accreditation or continuing accreditation.

General Description of Collection: The Consumer Product Safety Improvement Act of 2008 (CPSIA) requires third party testing be conducted by a third party conformity assessment body for any children's product, that is subject to a children's product safety rule, before importing for consumption or warehousing or distributing in commerce. The CPSIA allows accreditation of third party conformity assessment bodies to be conducted either by the Commission or by an independent accreditation organization designated by the Commission, and requires that the Commission maintain on its website an up-to-date list of entities that have been accredited to assess conformity with children's product safety rules. With the exception of firewalled third party conformity assessment bodies, the Commission has chosen to accept the accreditation of third party conformity assessment bodies that meet accreditation requirements of an independent accreditation organization.

To assess a third party conformity assessment body's qualifications for acceptance by CPSC, information related to location, accreditation, and ownership must be collected from third party conformity assessment bodies. The CPSC uses an online collection form, CPSC Form 223, to gather information from third party conformity assessment bodies voluntarily seeking acceptance by CPSC. The information collected relates to location, accreditation, and ownership. The Commission staff uses this information to assess:

• A third party conformity assessment body's status as either an independent third party conformity assessment body, a government-owned or government-controlled conformity assessment body, or a firewalled conformity assessment body;

• Qualifications for acceptance by CPSC to test for compliance to specified children's product safety rules; and

• Eligibility for acceptance on the CPSC website.

Part 1112 requires the collection of information in CPSC Form 223:

• Upon initial application by the third party conformity assessment body for acceptance by CPSC;

• Whenever there is a change to accreditation or ownership information; and

• At least every 2 years as part of a regular audit process.

Estimated Burden: The CPSC estimates the burden of the collection of information in CPSC Form 223 is as follows:

Estimated Annual Reporting Burden
Activity | Number of respondents | Frequency of responses | Total annual responses | Hours per response | Total hours
Initial Registration | 40 | 1 | 40 | 1 | 40
Re-Registration | 291 | 1 | 291 | 1 | 291
Changes in Information | 6 | 1 | 6 | 0.25 | 1.5
Total |  |  |  |  | 332.5

These estimates are based on the following information:

• Based on applications received from FY 2013 to date, we estimate the number of third party conformity assessment bodies who would register initially each year for the next three years would be 40.

• Under 16 CFR part 1112, third party conformity assessment bodies are required to resubmit CPSC Form 223 every two years. As all third party conformity assessment bodies have not submitted their first CPSC Form 223s at the same time, only about half would be expected to resubmit a CPSC Form 223 in any 1 year. As of

• August 2019, 581 third party conformity assessment bodies have registered with CPSC. Approximately half (291) of these firms would be required to re-register with CPSC each year.

• Under 16 CFR part 1112, third party conformity assessment bodies are required to ensure that the information submitted on CPSC Form 223 is current and to submit a new CPSC Form 223 whenever the information changes. Based on current experience with third party conformity assessment bodies, we estimate that two third party conformity assessment bodies will make revisions per year to update their information. A change in information is a change that does not require review of laboratory accreditation documents, such as scope or test methods. Examples of revised information include changes in the website URL, name of the laboratory, and name of point of contact.

The total burden, therefore, is 332.5 hours, which we will round up to 333 hours. We estimate that hourly compensation for the time required for recordkeeping is $34.61 per hour (U.S. Bureau of Labor Statistics, “Employer Costs for Employee Compensation,” Table 9, total compensation for sales, office, and related workers in goods-producing industries, March 2019: https://www.bls.gov/ect/data.htm). The total cost burden to the respondents is approximately $11,525 ($34.61 × 333 hours = $11,525).

Request for Comments

The Commission solicits written comments from all interested persons about the proposed collection of information. The Commission specifically solicits information relevant to the following topics:

• Whether the collection of information described above is necessary for the proper performance of the Commission's functions, including whether the information would have practical utility;

• Whether the estimated burden of the proposed collection of information is accurate;

• Whether the quality, utility, and clarity of the information to be collected could be enhanced; and

• Whether the burden imposed by the collection of information could be minimized by use of automated, electronic or other technological collection techniques, or other forms of information technology.

Alberta E. Mills,
Secretary, Consumer Product Safety Commission.

[FR Doc. 2019-19285 Filed 9-5-19; 8:45 am]

BILLING CODE 6355-01-P